FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 29, 2005.

A. Federal Reserve Bank of St. Louis (Glenda Wilson, Community Affairs Officer) 411 Locust Street, St. Louis, Missouri 63166-2034:

1. The Carlisle Family Control Group, Holly Springs, Mississippi, consisting of Dennis C. Carlisle, Sr., Martha Carlisle, Dennis Carlisle, Jr., Fred Carlisle, and the Dennis Carlisle Trust, all of Holly Springs, Mississippi; to retain voting shares of Holly Springs Bancshares, Inc., and thereby indirectly retain voting shares of The Bank of Holly Springs, both of Holly Springs, Mississippi.

2. John Dabney Brown, Holly Springs, Mississippi; to retain voting shares of Holly Springs Bancshares, Inc., and The Bank of Holly Springs, both of Holly Springs, Mississippi.

3. The Fant Family Control Group, consisting of L.G. Fant, III, Washington, DC; William H.S. Fant, Potomac, Maryland; James Fant, San Francisco, California; Cordelia Fantova, Atlanta, Georgia; Nancy Fant Smith, Oxford, Mississippi; Nancy Tisue, Knoxville, Tennessee; L.G. Fant Smith, Murfreesboro, Tennessee; Margaret Rhodes, Atlanta, Georgia; Catherine Smith, Nashville, Tennessee; and Orma R. Smith, III, Corinth, Mississippi; to retain voting shares of Holly Springs Bancshares, Inc., and thereby indirectly retain voting shares of The Bank of Holly Springs, both of Holly Springs, Mississippi.

4. The Gresham Family Control Group, Holly Springs, Mississippi, consisting of Sparkman Boothe Gresham, Frances McGill Gresham, Steven McGill Gresham, Anita Barnett, and Amanda Barnett, all of Holly Springs, Mississippi; to retain voting shares of Holly Springs Bancshares, Inc., and thereby indirectly retain voting shares of The Bank of Holly Springs, both of Holly Springs, Mississippi.

Board of Governors of the Federal Reserve System, November 9, 2005.
Robert deV. Frierson,
Deputy Secretary of the Board.

[FR Doc. E5-6294 Filed 11-14-05; 8:45 am]

BILLING CODE 6210-01-S